ENVIRONMENTAL PROTECTION AGENCY

[FRL-7870-7]

Investigator Initiated Grants: Request for Applications

AGENCY: U.S. Environmental Protection Agency.

ACTION: Notice of Requests for Applications.

SUMMARY: This notice provides information on the availability of fiscal year 2005 investigator initiated grants program announcements, in which the areas of research interest, eligibility and submission requirements, evaluation criteria, and implementation schedules are set forth. Grants will be competitively awarded following peer review.

DATES: Receipt dates vary depending on the specific research areas within the solicitations.

SUPPLEMENTARY INFORMATION: In its Requests for Applications (RFA) the U.S. Environmental Protection Agency invites research applications in the following areas of special interest to its mission: (1) Early Indicators of Environmentally-Induced Disease, (2) Computational Toxicology: Environmental Bioinformatics Research Center, (3) Environmental Behavior & Decisionmaking: Benefits of Information Disclosure/Provision, (4) Impact of Climate Change and Variability on Human Health, (5) Climate Change and Public Health Decision Making, (6) Exposure Measurement Tools for Endocrine Disrupting Chemicals in Mixtures, (7) Continuous Measurement Methods for Particulate Matter, (8) Development and Evaluation of Innovative Approaches for the Quantitative Assessment of Pathogens in Drinking Water, (9) Novel Biologically-based Public Health Indicators, (10) Allergenicity of Genetically Modified foods, (11) Valuation for Environmental Policy, (12) Implications of Tropospheric Air Pollution for Surface UV Exposures, (13) Nonlinear Responses to Global Change in Linked Aquatic and Terrestrial Ecosystems, (14) Ecology and Oceanology of Hazardous Algal Blooms (with NOAA, NSF, ONR and NASA), (15) Development of Predictive Toxicogenomics Approaches with Computational Toxicology, (16) Market Mechanisms and Incentives: Methods for New Markets; Experimental Markets, (17) Lifestyle and Cultural Practices of Tribal Populations and Risks from Toxic Substances in the Environment, (18) Integration of Biomarkers and PBPK & PBPD Modeling, (19) STAR Graduate Fellowships, (20) GRO Graduate & Undergraduate Fellowships.

Contacts: (1) Early Indicators of Environmentally-Induced Disease, e-mail: fields.nigel@epa.gov, telephone: 202-343-9767; (2) Computational Toxicology: Environmental Bioinformatics Research Center, e-mail: mustra.david@epa.gov, telephone: 202-343-9616; (3) Environmental Behavior & Decisionmaking: Benefits of Information Disclosure/Provision, e-mail: clark.matthew@epa.gov, telephone: 202-343-9807; (4) Impact of Climate Change and Variability on Human Health, e-mail: winner.darrell@epa.gov, telephone: 202-343-9748; (5) Climate Change and Public Health Decision Making, e-mail: winner.darrell@epa.gov, telephone: 202-343-9748; (6) Exposure Measurement Tools for Endocrine Disrupting Chemicals in Mixtures, e-mail: laessig.susan@epa.gov, telephone: 202-343-9617; (7) Continuous Measurement Methods for Particulate Matter, e-mail: winner.darrell@epa.gov, telephone: 202-343-9748; (8) Development and Evaluation of Innovative Approaches for the Quantitative Assessment of Pathogens in Drinking Water, e-mail: nolt-helms.cynthia@epa.gov, telephone: 202-343-9693; (9) Novel Biologically-based Public Health Indicators, e-mail: turner.vivian@epa.gov, telephone: 202-343-9697; (10) Allergenicity of Genetically Modified Foods, e-mail: turner.vivian@epa.gov, telephone: 202-343-9697; (11) Valuation for Environmental Policy, e-mail: wheeler.william@epa.gov, telephone: 202-564-6842; (12) Implications of Tropospheric Air Pollution for Surface UV Exposures, e-mail: winner.darrell@epa.gov, telephone: 202-343-9748; (13) Nonlinear Responses to Global Change in Linked Aquatic and Terrestrial Ecosystems, e-mail: smith.bernicel@epa.gov, telephone: 202-343-9766; (14) Ecology and Oceanology of Hazardous Algal Blooms (with NOAA, NSF, ONR and NASA), e-mail: perovich.gina@epa.gov, telephone: 202-343-9843; (15) Development of Predictive Toxicogenomics Approaches with Computational Toxicology, e-mail: mustra.david@epa.gov, telephone: 202-343-9616; (16) Market Mechanisms and Incentives: Methods for New Markets; Experimental Markets, e-mail: clark.matthew@epa.gov, telephone: 202-343-9807; (17) Lifestyle and Cultural Practices of Tribal Populations and Risks from Toxic Substances in the Environment, e-mail: fields.nigel@epa.gov, telephone: 202-343-9767; (18) Integration of Biomarkers and PBPK & PBPD Modeling, e-mail: saint.chris@epa.gov, telephone: 202-343-3124; (19) STAR Graduate Fellowships, e-mail: willett.stephanie@epa.gov, telephone: 202-343-9737; (20) GRO Graduate & Undergraduate Fellowships, e-mail: willett.stephanie@epa.gov, telephone: 202-343-9737.

FOR FURTHER INFORMATION CONTACT: The complete program announcement can be accessed on the Internet at http://www.epa.gov/ncer, under “announcements.” The required forms for applications with instructions are accessible on the Internet at http://es.epa.gov/ncer/rfa/forms/downlf.html. Forms may be printed from this site.

Dated: February 1, 2005.
Jack Puzak,
Acting Director, National Center for Environmental Research.

[FR Doc. 05-2519 Filed 2-8-05; 8:45 am]

BILLING CODE 6560-50-P